DEPARTMENT OF HOMELAND SECURITY

Coast Guard

33 CFR Part 117

[Docket No. USCG-2012-0978]

Drawbridge Operation Regulation; Columbia River, Vancouver, WA

AGENCY: Coast Guard, DHS.

ACTION: Notice of temporary deviation from regulations.

SUMMARY: The Coast Guard has issued a temporary deviation from the operating schedule that governs the Murray Morgan Bridge, also known as the South 11th Street Bridge, across the Thea Foss Waterway, mile 0.6, previously known as City Waterway, at Tacoma, WA. This deviation is necessary to perform extensive maintenance and repair work on the bridge as part a major bridge rehabilitation project. This deviation allows the bridge to remain in the closed position during construction activities.

DATES: This deviation is effective from 8 a.m. on November 10, 2012 through 8 p.m. December 21, 2012.

ADDRESSES: Documents mentioned in this preamble as being available in the docket are part of docket USCG-2012-0978 and are available online by going to http://www.regulations.gov, inserting USCG-2012-0978 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email the Bridge Administrator, Coast Guard Thirteenth District; telephone 206-220-7282 email randall.d.overton@uscg.mil. If you have questions on viewing the docket, call Renee V. Wright, Program Manager, Docket Operations, telephone 202-366-9826.

SUPPLEMENTARY INFORMATION: The City of Tacoma has requested to place the Murray Morgan Bridge (South 11th Street Bridge) in the closed or down position and to not open the bridge for vessel traffic to facilitate a major rehabilitation project on the bridge. The Murray Morgan Bridge crosses Thea Foss Waterway (previously known as City Waterway) at mile 0.6, at Tacoma, WA. The Murray Morgan Bridge is a vertical lift bridge. During this deviation the bridge will be placed in the closed or down position. There will be a debris containment system attached to the underside of the bridge for the duration of construction activities. A minimum vertical clearance of 57 feet above mean high water will be provided beneath the bridge and the attached debris containment system, at all times during the deviation period. Vessels which do not require a bridge opening may continue to transit beneath the bridge during this closure period. Under normal operations the bridge operates under 33 CFR 117.1063 which requires a two hour notice for an opening and allows the bridge to remain closed during morning and afternoon rush hours. This current deviation states the lift span of the Murray Morgan Bridge across Thea Foss Waterway, mile 0.6, need not open from 8 a.m. on November 10, 2012 through 8 p.m. December 21, 2012; except as otherwise outlined in this article and through ongoing coordination with waterway users. During this deviation period the bridge will be placed in the open position from 8 a.m. November 22 through 8 p.m. November 25, 2012 and from 8 a.m. December 8 through 8 p.m. December 9, 2012.

In accordance with 33 CFR 117.35(e), the drawbridge must return to its regular operating schedule immediately at the end of the designated time period. This deviation from the operating regulations is authorized under 33 CFR 117.35.

Dated: October 29, 2012.
Randall D. Overton,
Bridge Administrator.

[FR Doc. 2012-27251 Filed 11-6-12; 8:45 am]

BILLING CODE 9110-04-P